OFFICE OF PERSONNEL MANAGEMENT

Request for Comments on Draft Guidelines for Ensuring and Maximizing the Quality, Objectivity, Utility and Integrity of Disseminated Information

AGENCY: Office of Personnel Management.

ACTION: Notice.

SUMMARY: In conformance with the Office of Management and Budget (OMB) guidelines (Guidelines for Ensuring and Maximizing the Quality, Objectivity, Utility and Integrity of Information Disseminated by Federal Agencies Federal Register Volume 66, No.189 at 49718, updated in Volume 67, No. 36 at 8452), the Office of Personnel Management (OPM) is seeking comments on OPM's draft Information Quality Guidelines. These draft guidelines are published on OPM's website at http://www.opm.gov. These draft Information Quality Guidelines describe OPM's pre-dissemination information quality control procedures and an administrative mechanism for requests for correction of information publicly disseminated by OPM.

DATES: Comments are due on or before August 21, 2002.

ADDRESSES: Submit comments in writing to: Chief Information Officer, 1900 E Street, NW., Washington, DC, 20415-7900. Comments may also be sent by fax at (202-418-3251) or may be e-mailed to “informationquality@opm.gov.”

FOR FURTHER INFORMATION CONTACT: Robert Huley, Assistant Chief Information Officer, 1900 E Street, NW., Washington, DC 20415-7900. Telephone 202-606-2150 or by e-mail to rmhuley@opm.gov.

SUPPLEMENTARY INFORMATION: OPM's guidelines are drafted in accordance with Guidelines for Ensuring and Maximizing the Quality, Objectivity, Utility and Integrity of Information Disseminated by Federal Agencies (hereafter, Governmentwide Guidelines) published by OMB in the Federal Register in Volume 66, No. 189 at 49718 on Friday, September 28, 2001, updated in Volume 67, No. 2 at 369 on Thursday, January 3, 2002, and corrected in Volume 67, No. 36 at 8452 on February 22, 2002. The OMB guidelines were issued pursuant to Section 515 of the Treasury and General Government Appropriations Act for FY 2001 (Pub. L. 106-554), which directed OMB to issue Governmentwide guidelines providing guidance to Federal agencies for ensuring and maximizing the quality, objectivity, utility and integrity of information, including statistical information, disseminated by Federal agencies. In accordance with these provisions, each Federal agency is obligated to:

1. Issue its own information quality guidelines ensuring and maximizing the quality, objectivity, utility and integrity of information, including statistical information, disseminated by the agency no later than October 1, 2002;

2. Establish administrative mechanisms allowing affected persons to seek and obtain correction of information maintained and disseminated by the agency that does not comply with the agency or OMB guidelines; and

3. Report annually to the Director, OMB, beginning January 1, 2004, the number and nature of complaints received by the agency regarding agency compliance with the OMB guidelines concerning the quality, objectivity, utility and integrity of information and how such complaints were resolved.

Consistent with the Governmentwide Guidelines, OPM's draft guidelines rely on its existing practices, to the extent they are consistent with the recently published guidelines, while adopting a new administrative mechanism to satisfy the new procedural requirements. OPM's guidelines reflect its internal procedures for reviewing and substantiating information to maximize quality, including the objectivity, utility and integrity of information, before it is disseminated. The administrative mechanism allows affected persons to seek and obtain, where appropriate, correction of information disseminated by OPM that does not comply with the OPM guidelines or with the Governmentwide Guidelines. OPM's draft guidelines are available for review on OPM's web site at http://www.opm.gov.

OPM now seeks public comments on the draft guidelines covering pre-dissemination information quality control and an administrative mechanism for requests for correction of information publicly disseminated by OPM. The comments received by OPM will become a matter of public record. Revised OPM guidelines will be available on OPM's website. Notice of the availability of the final guidelines will be published in the Federal Register on or before October 1, 2002. OPM's guidelines may be revised periodically to address the needs of OPM and concerns expressed by the public.

Office of Personnel Management.
Kay Coles James,
Director.

[FR Doc. 02-19458 Filed 7-31-02; 8:45 am]

BILLING CODE 6325-47-P